DEPARTMENT OF HEALTH AND HUMAN SERVICES

Renewal of Charter for the Secretary's Advisory Committee on National Health Promotion and Disease Prevention Objectives for 2020

AGENCY: Department of Health and Human Services, Office of the Secretary, Office of Public Health and Science, Office of Disease Prevention and Health Promotion.

ACTION: Notice.

SUMMARY: As stipulated by the Federal Advisory Committee Act, as amended (5 U.S.C. Appendix 2), the U.S. Department of Health and Human Services is hereby announcing that the charter for the Secretary's Advisory Committee on National Health Promotion and Disease Prevention Objectives for 2020 (Healthy People 2020 Advisory Committee; HPAC) has been renewed.

FOR FURTHER INFORMATION CONTACT: Emmeline Ochiai, Executive Secretary, Secretary's Advisory Committee on National Health Promotion and Disease Prevention Objectives for 2020, Department of Health and Human Services, Office of Public Health and Science, Office of Disease Prevention and Health Promotion, 1101 Wootton Parkway, Room LL-100, Rockville, MD 20852; Telephone: (240) 453-8259; Fax (240) 453-8281. Additional information is available on the Internet at http://www.healthypeople.gov.

SUPPLEMENTARY INFORMATION: Every ten years, through the Healthy People initiative, the U.S. Department of Health and Human Services (HHS) leverages scientific insights and lessons from the past decade, along with the new knowledge of current data, trends, and innovations to develop the next iteration of the national health promotion and disease prevention objectives. Healthy People provides science-based, ten-year national objectives for promoting health and preventing disease. Since 1980, Healthy People has set and monitored national health objectives to meet a broad range of health needs, encourage collaborations across sectors, guide individuals toward making informed health decisions, and measure the impact of our prevention and health promotion activities. Healthy People 2020 will reflect assessment of major risks to health and wellness, changing public health priorities, and emerging technologies related to our nation's health preparedness and prevention.

The Committee will continue to provide advice and consultation to the Secretary of Health and Human Services for developing and implementing the next iteration of the national health promotion and disease prevention goals and objectives and provide recommendations for initiatives to occur during the implementation phase of the goals and objectives. HHS will use the recommendations to form the development of the national health promotion and disease prevention objectives for 2020 and the process for implementing the objectives. The intent is to develop and launch objectives designed to improve the health status and reduce health risks for Americans by the year 2020. Renewal of the HPAC charter provides authorization for the Committee to operate until September 4, 2011. A copy of the Committee charter can be obtained by contacting the Committee's Executive Secretary. A copy of the Committee charter also can be obtained by accessing the FACA database that is maintained by the Committee Management Secretariat under the General Services Administration. The Web site address for the FACA database is http://fido.gov/facadatabase.

Dated: September 23, 2009.
Penelope Slade-Sawyer,
RADM, USPHS, Deputy Assistant Secretary for Health (Disease Prevention and Health Promotion), Office of Disease Prevention and Health Promotion.

[FR Doc. E9-23539 Filed 9-29-09; 8:45 am]

BILLING CODE 4150-32-P